DEPARTMENT OF ENERGY

Federal Energy Regulatory Commission

[Project No. 15034-000]

Kinetic Power, LLC; Notice of Preliminary Permit Application Accepted for Filing and Soliciting Comments, Motions To Intervene, and Competing Applications

On June 1, 2020, the Kinetic Power LLC, filed an application for a preliminary permit, and amended on June 25, 2020, pursuant to section 4(f) of the Federal Power Act (FPA), proposing to study the feasibility of Beclabito Hydroelectric Energy Storage Center Project to be located about 20 miles west of Shiprock, New Mexico. The sole purpose of a preliminary permit, if issued, is to grant the permit holder priority to file a license application during the permit term. A preliminary permit does not authorize the permit holder to perform any land-disturbing activities or otherwise enter upon lands or waters owned by others without the owners' express permission.

The proposed project would be located entirely on Navajo Nation lands extending across the Arizona-New Mexico State border, consist of the following new facilities: (1) A 1,333-foot-long, 542-foot-high earthen rock fill dam (Upper Reservoir) with a surface area of 392 acres; and a total storage capacity of 35,043 acre-feet at a normal maximum operating elevation of 8,970 feet average mean sea level (msl); (2) a 1,134-foot-long, 166-foot-high earthen rock fill dam (Lower Reservoir) with a surface area of 534 acres, and a total storage capacity of 36,209 acre-feet at a normal maximum operating elevation of 5,656 feet average msl; (3) two 300-foot-long, 23-foot-diameter penstocks shafts; two 2,841-foot penstock vertical shafts; six 250-foot draft tube; and one 15,880-foot horizontal headrace tunnel with 16-foot diameter; (4) a 300-foot-long, 75-foot-wide, 160-foot-high reinforced concrete powerhouse housing six 250-megawatt fixed turbines generators; up to two 150-megawatt turbines with variable speed machines; (5) four 24,788-foot-long low pressure tailrace tunnels; (6) a 59,664-foot-long water source pipeline connecting the water pumping station located at the San Juan River to the Lower Reservoir for initial fill and make-up water; (7) two new double circuit 500-kilovolt (kV) electric transmission lines that connect the project switchyard to the propose existing uprates 500-kV transmission lines, and (8) appurtenant facilities. The estimated annual power generation at the Beclabito Energy Storage Center Project would be 2,628 gigawatt-hours.

Applicant Contact: Mr. Thomas Conroy, Co-Founder, Kinetic Power, LLC. Post Office Box 32482, Santa Fe, NM 87506, tconroy@kineticpowerco.com.

FERC Contact: Ousmane Sidibe; Phone: (202) 502-6245.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

In addition to publishing the full text of this document in the Federal Register, more information about this project, including a copy of the application, can be viewed or printed on the “eLibrary” link of Commission's website at http://www.ferc.gov/docs-filing/elibrary.asp. Enter the docket number (P-15034) in the docket number field to access the document. For assistance, contact FERC Online Support.

Dated: September 17, 2020.
Kimberly D. Bose,
Secretary.

[FR Doc. 2020-20982 Filed 9-22-20; 8:45 am]

BILLING CODE 6717-01-P